DEPARTMENT OF HEALTH AND HUMAN SERVICES

Food and Drug Administration

Request for Nominations for Nonvoting Members of Industry Interests on Public Advisory Committees; Extension of Nomination Period

AGENCY: Food and Drug Administration, HHS.

ACTION: Notice; extension of nomination period.

SUMMARY: The Food and Drug Administration (FDA) is extending the nomination period for nonvoting representatives of industry interests to serve on public advisory committees under the purview of the Center for Biologics Evaluation and Research (CBER) and the Center for Drug Evaluation and Research (CDER). This request for nominations was announced in the Federal Register of August 16, 2000 (65 FR 49990). FDA has been asked to extend the nominations period to allow additional time for the submission of nominations. Note also that the street address for the CBER contact person has been changed.

DATES: Nominations should be received by October 16, 2000.

ADDRESSES: All nominations for representatives should be sent to William Freas or John M. Treacy (addresses below).

FOR FURTHER INFORMATION CONTACT:

Regarding representatives of industry interests for CBER advisory committees: William Freas, Scientific Advisors and Consultants Staff (HFM-71), Food and Drug Administration, 1401 Rockville Pike, Rockville, MD 20852-1448, 301-827-0314, FAX: 301-827-0294, or e-mail: FREAS@CBER.FDA.GOV.

Regarding representatives of industry interests for CDER advisory committees: John M. Treacy, Advisors and Consultants Staff (HFD-21), Food and Drug Administration, 5600 Fishers Lane, Rockville, MD 20857, 301-827-7001, FAX: 301-827-6776, or e-mail: TREACY@CDER.FDA.GOV.

Dated: September 12, 2000.
Linda A, Suydam,
Senior Associate Commissioner.

[FR Doc. 00-23880 Filed 9-13-00; 1:36 pm]

BILLING CODE 4160-01-F